FEDERAL COMMUNICATIONS COMMISSION

47 CFR Part 27

[WT Docket No. 99-168, CS Docket No. 98-120, MM Docket No. 00-39; FCC 01-02]

Service Rules for the 746-764 and 776-794 MHz Bands; Revisions to Part 27 of the Commission's Rules

AGENCY: Federal Communications Commission.

ACTION: Final rule; petition for reconsideration.

SUMMARY: This proceeding considers service rules for the 747-762 and 777-792 MHz bands (the lower and upper 700 MHz commercial bands). The Commission, in this document, affirms an earlier decision that base station transmitters should be permitted to operate in the upper 700 MHz commercial band and denies a petition for reconsideration of this issue. This action also responds to the petitioner's request for clarification as to the appropriate out-of-band emission standard for control stations operating in the 700 MHz commercial bands.

DATES: Effective February 6, 2001.

FOR FURTHER INFORMATION CONTACT: Legal Information: Stan Wiggins, 202-418-1310; Technical Information: Marty Liebman, 202-418-1310.

SUPPLEMENTARY INFORMATION: This is a summary of the Commission's Second Memorandum Opinion and Order (Second MO&O) in WT Docket No. 99-168; CS Docket No. 98-120, and MM Docket No. 00-39, FCC 01-02, adopted January 2, 2001, and released January 12, 2001. The complete text of this Second MO&O is available for inspection and copying during normal business hours in the FCC Reference Information Center, Courtyard Level, 445 12th Street, SW., Washington, DC and also may be purchased from the Commission's copy contractor, International Transcription Services (ITS, Inc.), CY-B400, 445 12th Street, SW., Washington, DC.

Synopsis of the Second Memorandum Opinion and Order

1. The Commission adopts a Second Memorandum Opinion and Order (Second MO&O) in the above-cited proceeding, with regard to service rules for the 747-762 and 777-792 MHz bands. The Second MO&O responds to a petition for reconsideration of the decision in the Memorandum Opinion and Order in this docket (65 FR 42879, July 12, 2000) to permit base station transmitters to operate in both the lower and upper 700 MHz commercial bands. Motorola, Inc. (Motorola) asked that the Commission reconsider this decision. As detailed in paragraphs 1 through 13 of the full text of the Second MO&O, the Commission finds that allowing such transmissions should not cause additional interference for public safety operations, will allow for the broadest possible use of this spectrum, consistent with sound spectrum management, and will expand participation in the auction and increase the potential for new technologies and new services.

2. The Commission concludes that, while interference is highly unlikely to occur as a result of this decision, where instances of interference actually occur they can be readily addressed on a case-by-case basis, and that historically-followed coordination procedures, requiring cooperation and accommodation by both commercial and public safety entities, will generally be able to resolve such interference. The Commission indicates that should routine coordination procedures fail to resolve the interference, it will consider other appropriate mitigation measures.

3. Motorola also sought clarification as to the appropriate out-of-band emission standard for control stations operating in the 700 MHz commercial bands. The Commission, in the Second MO&O, clarifies that control stations, which are fixed stations, must comply with the same 76 + 10 log P emission standard that applies to all base and fixed stations.

Authority Citation and Ordering Clauses

1. This action is taken pursuant to sections 1, 4(i), 7, 10, 201, 202, 208, 214, 301, 303, 307, 308, 309(j), 309(k), 310, 311, 316, 319, 324, 332, 336, and 337 of the Communications Act of 1934, as amended, 47 U.S.C. 151, 154(i), 157, 160, 201, 202, 208, 214, 301, 303, 307, 308, 309(j), 309(k), 310, 311, 316, 319, 324, 332, 336, and 337 and the Consolidated Appropriations Act, 2000, Public Law 106-113, 113 Stat. 1501, section 213.

The Petition for Reconsideration or Clarification filed by Motorola is denied, and, in accordance with section 213 of the Consolidated Appropriations Act, 2000, Public Law 106-113, 113 stat. 1501 (1999), this action shall be effective February 6, 2001.

Federal Communications Commission.
William F. Caton,
Deputy Secretary.

[FR Doc. 01-3045 Filed 2-5-01; 8:45 am]

BILLING CODE 6712-01-P